DEPARTMENT OF ENERGY

Federal Energy Regulatory Commission

[Docket No. CP02-392-000]

Ozark Gas Transmission, L.L.C.; Notice of Application

July 1, 2002.

Take notice that on June 21, 2002, Ozark Gas Transmission, L.L.C. (Ozark), 515 Central Park Drive, Oklahoma City, Oklahoma 73105, filed in Docket No. CP02-392-000 an application pursuant to Section 7(c) of the Natural Gas Act (NGA) for a certificate of public convenience and necessity authorizing the construction of an upgrade to an existing delivery point in Arkansas, all as more fully set forth in the application which is on file with the Commission and open to public inspection. Copies of this filing are on file with the Commission and are available for public inspection. This filing may be viewed on the web at http://www.ferc.gov using the “RIMS” link, select “Docket #” from the RIMS Menu and follow the instructions (call (202) 208-2222 for assistance).

Ozark proposes to upgrade its existing delivery point serving the Thomas B.Fitzhugh Generating Station (Fitzhugh) in Franklin County, Arkansas, in order to provide natural gas service to Arkansas Electric Cooperative Corporation (AECC). It is stated that AECC is re-powering the generating station by replacing its current boiler with a dual fuel combustion turbine in order to increase its capacity and serve an expanding market. It is explained that Ozark's existing facilities would not provide sufficient capacity and pressure to supply gas to the electric generating station following the re-powering. It is asserted that Ozark will upgrade its measurement station by adding measurement devices to handle and accurately measure a minimum flow rate of 150 Mcf of gas per day (Mcfd) and a maximum flow rate of 45,000 Mcfd. Ozark estimates the cost of the proposed facilities at $475,212. Ozark requests that a certificate be issued by September 11, 2002, so that it can supply test gas to Fitzhugh by December 1, 2002.

It is explained that the proposed upgrade could have been authorized under the automatic provisions of Ozark's blanket certificate. However, the project is located in an area of Western Arkansas (Township 9N, Range 26W) that is the subject of a Stipulation and Consent Agreement entered into between Ozark's predecessor, Ozark Gas Transmission System and the Commission in 1982. This settlement agreement requires Ozark to obtain a certificate of public convenience and necessity from the Commission before constructing any pipeline or compression facility in Township 9N, Range 26W.

Any questions regarding this amendment should be directed to James F. Bowe, Jr., Attorney, Dewey Ballantine LLP, at (202) 429-1444.

There are two ways to become involved in the Commission's review of this project. First, any person wishing to obtain legal status by becoming a party to the proceedings for this project should, on or before July 22, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-16968 Filed 7-5-02; 8:45 am]

BILLING CODE 6717-01-P